DEPARTMENT OF AGRICULTURE

Animal and Plant Health Inspection Service

[Docket No. APHIS-2015-0001]

Notice of Decision To Authorize the Importation of Fresh Cranberries From Chile Into the Continental United States

AGENCY: Animal and Plant Health Inspection Service, USDA.

ACTION: Notice.

SUMMARY: We are advising the public of our decision to authorize the importation of fresh cranberries from Chile into the continental United States. Based on the findings of a pest risk assessment, which we made available for the public to review and comment through a previous notice, we have concluded that the application of one or more designated phytosanitary measures will be sufficient to mitigate the risks of introducing or disseminating plant pests or noxious weeds via the importation of fresh cranberries from Chile.

DATES: Effective September 9, 2015.

FOR FURTHER INFORMATION CONTACT: Ms. Claudia Ferguson, Senior Regulatory Policy Coordinator, Regulatory Policy and Coordination, PPQ, APHIS, 4700 River Road Unit 133, Riverdale, MD 20737-1231; (301) 851-2352.

SUPPLEMENTARY INFORMATION:

Under the regulations in “Subpart—Fruits and Vegetables” (7 CFR 319.56-1 through 319.56-72, referred to below as the regulations), the Animal and Plant Health Inspection Service (APHIS) prohibits or restricts the importation of fruits and vegetables into the United States from certain parts of the world to prevent plant pests from being introduced into or disseminated within the United States.

Section 319.56-4 contains a performance-based process for approving the importation of certain fruits and vegetables that, based on the findings of a pest risk analysis, can be safely imported subject to one or more of the designated phytosanitary measures listed in paragraph (b) of that section.

In accordance with that process, we published a notice¹ in the Federal Register on March 12, 2015 (80 FR 12976-12977, Docket No. APHIS-2015-0001), in which we announced the availability, for review and comment, of a pest risk assessment (PRA) that identifies pests of quarantine significance that could follow the pathway of importation of cranberries from Chile into the continental United States. Based on the PRA, a risk management document (RMD) was prepared to identify phytosanitary measures that could be applied to the cranberries to mitigate the pest risk.

¹ To view the notice, PRA, RMD, and comments we received, go to http://www.regulations.gov/#!docketDetail;D=APHIS-2015-0001.

We solicited comments on the PRA and RMD for 60 days, ending on May 11, 2015. We received six comments by that date, from an organization of State plant regulatory agencies, importers, the Chilean Government, and private citizens. All comments we received supported the importation of cranberries from Chile into the continental United States.

Therefore, in accordance with § 319.56-4(c)(2)(ii), we are announcing our decision to authorize the importation of cranberries from Chile into the continental United States subject to the following phytosanitary measures:

• The cranberries must be imported as commercial consignments only;

• Each consignment of cranberries must be accompanied by a phytosanitary certificate issued by the national plant protection organization of Chile; and

• Each consignment of cranberries is subject to inspection upon arrival at the port of entry to the United States.

These conditions will be listed in the Fruits and Vegetables Import Requirements database (available at http://www.aphis.usda.gov/favir). In addition to these specific measures, cranberries from Chile will be subject to the general requirements listed in § 319.56-3 that are applicable to the importation of all fruits and vegetables.

Authority: 7 U.S.C. 450, 7701-7772, and 7781-7786; 21 U.S.C. 136 and 136a; 7 CFR 2.22, 2.80, and 371.3.

Done in Washington, DC, this 2nd day of September 2015.
Michael C. Gregoire,
Acting Administrator, Animal and Plant Health Inspection Service.

[FR Doc. 2015-22719 Filed 9-8-15; 8:45 am]

BILLING CODE 3410-34-P